DEPARTMENT OF THE INTERIOR

Fish and Wildlife Service

[FWS-R9-IA-2011-N103; 96200-1672-0002-R5]

Information Collection Request Sent to the Office of Management and Budget (OMB) for Approval; International Conservation Grant Programs

AGENCY: Fish and Wildlife Service, Interior.

ACTION: Notice; request for comments.

SUMMARY: We (U.S. Fish and Wildlife Service, FWS) have sent an Information Collection Request (ICR) to OMB for review and approval. We summarize the ICR below and describe the nature of the collection and the estimated burden and cost. This information collection is scheduled to expire on May 31, 2011. We may not conduct or sponsor and a person is not required to respond to a collection of information unless it displays a currently valid OMB control number. However, under OMB regulations, we may continue to conduct or sponsor this information collection while it is pending at OMB.

DATES: You must submit comments on or before June 23, 2011.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, MS 2042-PDM, 4401 North Fairfax Drive, Arlington, VA 22203 (mail), or INFOCOL@fws.gov (e-mail). Please include 1018-0123 in the subject line of your comments.

FOR FURTHER INFORMATION CONTACT: To request additional information about this ICR, contact Hope Grey at INFOCOL@fws.gov (e-mail) or 703-358-2482 (telephone). You may review the ICR online at http://www.reginfo.gov. Follow the instructions to review Department of the Interior collections under review by OMB.

SUPPLEMENTARY INFORMATION: OMB Control Number: 1018-0123.

Title: International Conservation Grant Programs.

Service Form Number: 3-2338.

Type of Request: Revision of a currently approved collection.

Description of Respondents: Domestic and nondomestic individuals; nonprofit organizations; educational institutions; private sector entities; and State, local, and tribal governments.

Respondent's Obligation: Required to obtain or retain a benefit.

Frequency of Collection: On occasion.

Activity | Number of respondents | Number of responses | Completion time per response (hours) | Total annual burden hours
Applications | 668 | 668 | 22 | 14,696
Reports | 302 | 604 | 40 | 24,160
Totals | 970 | 1,272 |  | 38,856

Abstract: Some of the world's most treasured and exotic animals are dangerously close to extinction. Destruction of natural habitat, illegal poaching, and pet-trade smuggling are devastating populations of tigers, rhinos, marine turtles, great apes, elephants, and many other highly cherished species. The Division of International Conservation administers competitive grant programs funded under the:

• African Elephant Conservation Act (16 U.S.C. 4201-4245).

• Asian Elephant Conservation Act of 1997 (16 U.S.C. 4261).

• Great Ape Conservation Act of 2000 (Pub. L. 106-411).

• Rhinoceros and Tiger Conservation Act of 1994 (16 U.S.C. 5306).

• Marine Turtle Conservation Act (Pub. L. 108-266).

• Endangered Species Act (16 U.S.C. 1531 et seq.) (Wildlife Without Borders Programs—Africa; Mexico; Latin America and the Caribbean; Russia; Critically Endangered Animals; and Amphibians in Decline).

Currently, information that we collect for Critically Endangered Animals grants is approved under OMB Control No. 1018-0142, which expires December 31, 2012. Information collection for Amphibians in Decline grants is approved under OMB Control No. 1018-0144, which expires September 30, 2013. We are proposing to consolidate all of our international conservation grants under OMB Control No. 1018-0123. If OMB approves this request, we will discontinue OMB Control Numbers 1018-0142 and 1018-0144.

Applicants submit proposals for funding in response to Notices of Funding Availability that we publish on Grants.gov. We collect the following information:

• Cover page with basic project details (FWS Form 3-2338).

• Project summary and narrative.

• Letter of appropriate government endorsement.

• Brief curricula vitae for key project personnel.

• Complete Standard Forms 424 and 424b (nondomestic applicants do not submit the standard forms).

Proposals may also include, as appropriate, a copy of the organization's Negotiated Indirect Cost Rate Agreement (NICRA) and any additional documentation supporting the proposed project.

The project summary and narrative are the basis for this information collection request. A panel of technical experts reviews each proposal to assess how well the project addresses the priorities identified by each program's authorizing legislation. As all of the on-the-ground projects are conducted outside the United States, the letter of appropriate government endorsement ensures that the proposed activities will not meet with local resistance or work in opposition to locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget. Applicants may provide any additional documentation that they believe supports their proposal.

All assistance awards under these grant programs have a maximum reporting requirement of a:

• Mid-term report (performance report and a financial status report) due within 30 days of the conclusion of the first half of the project period, and

• Final report (performance and financial status report and copies of all deliverables, photographic documentation of the project and products resulting from the project) due within 90 days of the end of the performance period.

Comments: On October 27, 2010, we published in the Federal Register (75 FR 66119) a notice of our intent to request that OMB approve this information collection. In that notice, we solicited comments for 60 days, ending on December 27, 2010. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: May 18, 2011.
Tina A. Campbell,
Chief, Division of Policy and Directives Management, U.S. Fish and Wildlife Service.

[FR Doc. 2011-12814 Filed 5-23-11; 8:45 am]

BILLING CODE 4310-55-P